DEPARTMENT OF HEALTH AND HUMAN SERVICES

Centers for Disease Control and Prevention

[30Day-04-040W]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project

National Healthcare Safety Network (NHSN)—New—National Center for Infectious Disease (NCID), Centers for Disease Control and Prevention (CDC).

OMB first approved the information collection now known as the “National Nosocomial Infections Surveillance (NNIS) System” (OMB No.0920-0012) in 1970; it approved the “National Surveillance System for Healthcare Workers(NaSH)” (OMB 0920-0417) in 1997, and the “Surveillance for Bloodstream and Vascular Access Infections in Outpatient Hemodialysis Centers” (OMB No. 0920-0442) in 1999. These three data collections have been modified and are being merged to create the NHSN. The NHSN will evolve with the addition of modules and participating healthcare institutions from a wide spectrum of settings.

The NHSN is a knowledge system for accumulating, exchanging, and integrating relevant information and resources among private and public stakeholders to support local and national efforts to protect patients and to promote healthcare safety. Specifically, the data will be used to determine the magnitude of various healthcare-associated adverse events and trends in the rates of these events among patients and healthcare workers with similar risks. They will be used to detect changes in the epidemiology of adverse events resulting from new and current medical therapies and changing risks.

Healthcare institutions that participate in NHSN voluntarily report their data to the Division of Healthcare Quality Promotion in the National Center for Infectious Diseases at the Centers for Disease Control and Prevention through the National Electronic Disease Surveillance System that uses a web browser-based technology for data entry and data management. Data are collected by trained surveillance personnel using written standardized protocols. The table below shows the estimated annual burden in hours to collect and report data. The total burden hours are 65,817.

Title | No. of respondents | No. of responses/respondent | Burden per response (in hrs.)
Facility Contact Information | 350 | 1 | 10/60
Patient Safety Component Facility Characteristics | 350 | 1 | 30/60
Agreement To Participate and Consent | 350 | 1 | 15/60
Group Contact Information | 350 | 1 | 5/60
Patient Safety Monthly Reporting Plan | 350 | 9 | 25/60
Healthcare Personnel Safety Reporting Plan | 90 | 2 | 10/60
Patient Data* |  |  |
Primary Bloodstream Infection (BSI)** | 200 | 36 | 25/60
Pneumonia (PNEU) | 200 | 72 | 25/60
Urinary Tract Infection (UTI) | 200 | 27 | 25/60
Surgical Site Infection (SSI) | 200 | 27 | 25/60
Dialysis Incident (DI) | 80 | 90 | 12/60
Custom Event (not reported to CDC) |  |  |
Antimicrobial Use and Resistance (AUR)—Microbiology Laboratory Data** | 20 | 45 | 3
Antimicrobial Use and Resistance (AUR)—Pharmacy Data** | 20 | 36 | 2
Denominators for Intensive Care Unit (ICU)/Other Locations (Not NICU or SCA) | 245 | 18 | 5
Denominators for Specialty Care Area (SCA) | 75 | 9 | 5
Denominators for Neonatal Intensive Care Unit (NICU) | 100 | 9 | 4
Denominators for Procedure | 200 | 540 | 5/60
Dialysis Log Form (Not reported to CDC) |  |  |
Denominators for Outpatient Dialysis | 80 | 9 | 5/60
Patient Safety Component—Hemodialysis Center Practices Survey | 80 | 1 | 1
List of Blood Isolates+ | 350 | 1 | 1
Manual Categorization of Positive Blood Cultures+ | 350 | 1 | 1
Exposures to Blood/Body Fluids | 90 | 42 | 1
Healthcare Personnel Post Exposure Prophylaxis | 90 | 6 | 15/60
Healthcare Personnel Demographic Data | 90 | 42 | 10/60
Healthcare Personnel Vaccination History | 90 | 42 | 15/60
Annual Facility Survey | 90 | 1 | 5.5
Implementation of Engineering Controls | 90 | 1 | 30/60
Healthcare Personnel Survey | 90 | 10 | 10/60
* Data on Patient Data Form are entered as part of an adverse event (AE), so the burden of these data are included under each AE form's burden estimate.
** Burden will be eliminated when reporting these data once an HHSN institution implements electronic data capture.
+ Burden during Validation phase only, then eliminated.

Dated: October 12, 2004.
Alvin Hall,
Director, Management Analysis and Services Office, Centers for Disease Control and Prevention.

[FR Doc. 04-23220 Filed 10-15-04; 8:45 am]

BILLING CODE 4163-18-P